DEPARTMENT OF ENERGY

Nuclear Infrastructure Programmatic Environmental Impact Statement Supplement Analysis Determination for Plutonium-238 Production for Radioisotope Power Systems

AGENCY: Department of Energy.

ACTION: Notice of availability of supplement analysis and determination.

SUMMARY: The Department of Energy (DOE) has completed the Supplement Analysis (SA) of the Programmatic Environmental Impact Statement for Accomplishing Expanded Civilian Nuclear Energy Research and Development and Isotope Production Missions in the United States, Including the Role of the Fast Flux Test Facility (Nuclear Infrastructure or NI PEIS) (DOE/EIS-0310) published in December 2000. In accordance with DOE's National Environmental Policy Act (NEPA) Implementing Procedures at 10 CFR 1021.314, DOE has determined that the SA has not identified substantial changes to the original proposal for production of Pu-238 analyzed in the NI PEIS or significant new circumstances or information relevant to environmental concerns which would warrant preparation of a supplement to the NI PEIS or a new EIS and that the NI PEIS Record of Decision (ROD) published on January 26, 2001 (66 FR 7877) may be implemented without any additional NEPA review.

FOR FURTHER INFORMATION CONTACT: For further information on the Pu-238 Production Program, please contact: Ms. Rebecca Onuschak, Pu-238 Production Program Manager, Office of Space and Defense Power Systems (NE-75), Office of Nuclear Energy, U.S. Department of Energy, 1000 Independence Ave. SW., Washington, DC 20585, Phone 301-903-0023, Rebecca.onuschak@nuclear.energy.gov.

For copies of the SA and the Determination or information on NEPA analysis for Pu-238 production, please contact:

Dr. Rajendra Sharma, NEPA Compliance Officer, Office of Nuclear Energy (NE-31), U.S. Department of Energy, 1000 Independence Ave. SW., Washington, DC 20585, Phone 301-903-2899, rajendra.sharma@nuclear.energy.gov.

For general information on the DOE NEPA process, please contact: Ms. Carol Borgstrom, Director, Office of NEPA Policy and Compliance (GC-54), U.S. Department of Energy, 1000 Independence Ave. SW., Washington, DC 20585, Phone 202-586-4600; leave a message at 1-800-472-2756; facsimile 202-586-7031; or send email to: asknepa@hq.doe.gov.

SUPPLEMENTARY INFORMATION

Background

DOE published a Federal Register notice (78 FR 1848) on January 9, 2013, to announce its intent to implement the decision made in 2001 for production of Pu-238, which was based on the analyses conducted in the NI PEIS (DOE/EIS-0310) issued in 2000. Because the NI PEIS was published 13 years ago, the Department decided to conduct a supplement analysis of the NI PEIS to ascertain if there are significant new circumstances or new information relevant to environmental concerns which should be analyzed prior to implementing the 2001 decision.

This NI PEIS SA (DOE/EIS-0310-SA-02) was prepared in accordance with DOE's NEPA Implementing Procedures at 10 CFR 1021.314. The relevant environmental aspects analyzed in the NI PEIS were re-analyzed, as necessary, with updated information. The Department also analyzed the alternatives which were evaluated in the NI PEIS, including any additional reasonable alternatives that may warrant analysis and consideration in the SA. The proposed action as analyzed in the NI PEIS has not changed except for the change in storage location of neptunium-237 (Np-237, the target material) from the Oak Ridge National Laboratory (ORNL) in Tennessee to the Materials and Fuels Complex at the Idaho National Laboratory (INL) in Idaho. After completing an earlier SA (DOE/EIS-0310-SA-01), the Department published an Amended Record of Decision for this change of storage location in August 2004 (69 FR 50180). After completing this SA, the Department has determined that the analysis contained in the NI PEIS, including the analysis of alternatives, is still valid. There are no significant new circumstances or information relevant to environmental concerns which would warrant preparation of a supplement to the NI PEIS or a new EIS. Therefore, the Department reaffirms the decision made in the NI PEIS ROD (January 26, 2001; 66 FR 7877) for production of up to five kilograms of Pu-238 per year using the Advanced Test Reactor at INL and the High Flux Isotope Reactor at ORNL to irradiate Np-237 targets, and using the Radiochemical Engineering Development Center (REDC) at ORNL to fabricate Np-237 targets and isolate Pu-238. The processing of Pu-238 into fuel pellets at the Los Alamos National Laboratory (LANL) in New Mexico and assembly and testing of radioisotope power systems (RPSs) at INL in existing facilities will continue as ongoing operations. The RPSs are used to support the National Aeronautics and Space Administration and national security missions.

The NI PEIS SA, including the determination, has been posted on the DOE NEPA Web site at http://energy.gov/nepa/supplement-analyses-sa, with internet links provided on the Office of Nuclear Energy (http://energy.gov/ne/), Idaho Operations Office (http://www.id.energy.gov/insideNEID/PublicInvolvement.htm), and Oak Ridge Office (http://www.oakridge.doe.gov/external/) Web sites. Copies of the SA and the determination have been placed in the DOE public reading room(s) in Washington, DC; Idaho Falls, Idaho; and Oak Ridge, Tennessee; for a reasonable period of time. Copies may also be requested from Dr. Rajendra Sharma at the address provided above.

Issued in Washington, DC, on September 10, 2013.
Peter B. Lyons,
Assistant Secretary for Nuclear Energy.

[FR Doc. 2013-22452 Filed 9-13-13; 8:45 am]

BILLING CODE 6450-01-P